DEPARTMENT OF ENERGY

Federal Energy Regulatory Commission

[Project No. 2514-209]

Appalachian Power Company; Notice of Revised Procedural Schedule for Environmental Assessment for the Proposed Project Relicense

On February 28, 2022, as supplemented,¹ Appalachian Power Company (Appalachian) filed an application for a new license to continue to operate and maintain the 26.1-megawatt Byllesby-Buck Hydroelectric Project No. 2514 (project). On December 22, 2023, Commission staff issued a notice of intent to prepare an environmental assessment (EA) to evaluate the effects of relicensing the project. The notice included an anticipated schedule for issuing the EA.

¹ The final license application filed February 28, 2022 was supplemented on February 28, 2023.

By this notice, Commission staff is updating the procedural schedule for completing the EA. The revised schedule is shown below. Further revisions to the schedule may be made as appropriate.

Milestone | Target date
Issue EA | December 2024.

Any questions regarding this notice may be directed to Jody Callihan at (202) 502-8278, or by email at jody.callihan@ferc.gov.

Dated: September 5, 2024.
Debbie-Anne A. Reese,
Acting Secretary.

[FR Doc. 2024-20591 Filed 9-10-24; 8:45 am]

BILLING CODE 6717-01-P